DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held December 16th 2014 from 8:30 a.m.-1:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

December 17th

• WELCOME AND INTRODUCTIONS

• REVIEW/APPROVE Meeting Summary

○ September 23, 2014, RTCA Paper No. 243-14/PMC-1262

• PUBLICATION CONSIDERATION/APPROVAL

○ Final Draft, New Document, User Guide—Supplement to DO-160G, RTCA Paper No. 226-14/PMC-1257, prepared by SC-135

○ Final Draft, Change 1 to DO-160G, Environmental Conditions and Test Procedures for Airborne Equipment, RTCA Paper No. 234-14/PMC-1258, prepared by SC-135

• INTEGRATION and COORDINATION COMMITTEE (ICC)

○ ICC Recommendations on ATC Winds—Status—Special Committees 186, 206, 214 and 227

• ACTION ITEM REVIEW

○ PMC Ad Hoc—Standards Overlap and Alignment—Discussion—Workshop Status

○ PMC Survey—Meeting Alternatives—Discussion

• DISCUSSION

○ Addressing Human Factors/Pilot Interface Issues for Avionics—Discussion—Finalize Terms of Reference for New Special Committee

○ SC-135—Environmental Testing—Discussion—Revised Terms of Reference

○ SC-159—Global Positioning System—Discussion—Revised Terms of Reference

○ SC-186—ADS-B—Discussion—Revised Terms of Reference

○ SC-206—Aeronautical Information Services Data Link—Discussion—Revised Terms of Reference

○ SC-216—Aeronautical Systems Security—Discussion—Revised Terms of Reference

○ SC-222—Aeronautical Mobile-Satellite (R)S (AMS(R)S)- Discussion—Revised Terms of Reference

○ SC-224—Airport Security Access Control Systems—Discussion—Revised Terms of Reference—Development of Operational Guidelines

○ SC-227—Standards of Navigation Performance—Discussion—Revised Terms of Reference

○ SC-231- Terrain Awareness Warning Systems (TAWS)—Discussion—Revised Terms of Reference.

○ Design Assurance Guidance for Airborne Electronic Hardware—Discussion—Possible New Special Committee to Update RTCA DO-254

○ Portable Electronic Devices—Discussion—Possible New Special Committee

○ Wake Vortex Tiger Team—Discussion—White Paper—Progress Status

○ NAC—Status Update

○ FAA Actions Taken on Previously Published Documents—Report

○ Special Committees—Chairmen's Reports and Active Inter-Special Committee Requirements Agreements (ISRA)—Review

○ European/EUROCAE Coordination—Status Update

• OTHER BUSINESS

• SCHEDULE for COMMITTEE DELIVERABLES and NEXT MEETING DATE

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 18, 2014.
Mohannad Dawoud,
Management Analyst, NextGen, Program Oversight and Administration, Federal Aviation Administration.

[FR Doc. 2014-28042 Filed 11-25-14; 8:45 am]

BILLING CODE 4910-13-P